DEPARTMENT OF HOMELAND SECURITY

U.S. Immigration and Customs Enforcement

[OMB Control No. 1653-0021]

Agency Information Collection Activities: Extension, Without Changes, of an Existing Information Collection; Comment Request

AGENCY: U.S. Immigration and Customs Enforcement, Department of Homeland Security.

ACTION: 30-Day Notice of information collection for review; Form No. I-246; Application for Stay of Removal or Deportation; OMB Control No. 1653-0021.

The Department of Homeland Security, U.S. Immigration and Customs Enforcement (USICE) is submitting the following information collection request for review and clearance in accordance with the Paperwork Reduction Act of 1995. The information collection is published in the Federal Register to obtain comments from the public and affected agencies. This information collection was previously published in the Federal Register on February 13, 2017, Vol. 82 No. 10497 allowing for a 60-day comment period. USICE did not receive a comment in connection with the 60-day notice. The purpose of this notice is to allow an additional 30 days for public comments

Written comments and suggestions regarding items contained in this notice and especially with regard to the estimated public burden and associated response time should be directed to the Office of Information and Regulatory Affairs, Office of Management and Budget. Comments should be addressed to the OMB Desk Officer for U.S. Immigration and Customs Enforcement, Department of Homeland Security, and sent via electronic mail to oira_submission@omb.eop.gov or faxed to (202) 395-5806.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved information collection.

(2) Title of the Form/Collection: Application for a Stay of Deportation or Removal.

(3) Agency form number, if any, and the applicable component of the Department of Homeland Security sponsoring the collection: ICE Form I-246; U.S. Immigration and Customs Enforcement.

(4) Affected public who will be asked or required to respond, as well as a brief abstract: Primary: Individual or Households, Business or other non-profit. The information collected is necessary for USICE to make a determination that the eligibility requirements for a request for a stay of deportation or removal are met by the applicant.

(5) An estimate of the total number of respondents and the amount of time estimated for an average respondent to respond: 10,000 responses at 30 minutes (.5 hours) per response.

(6) An estimate of the total public burden (in hours) associated with the collection: 5,000 annual burden hours.

Dated: April 25, 2017.
Scott Elmore,
PRA Clearance Officer, Office of the Chief Information Officer, U.S. Immigration and Customs Enforcement, Department of Homeland Security.

[FR Doc. 2017-08580 Filed 4-27-17; 8:45 am]

BILLING CODE 9111-28-P